DEPARTMENT OF COMMERCE

Bureau of Industry and Security

15 CFR Part 744

[Docket No. 241205-0313]

RIN 0694-AJ96

Additions to the Entity List

AGENCY: Bureau of Industry and Security, Department of Commerce.

ACTION: Final rule.

SUMMARY: In this rule, the Bureau of Industry and Security (BIS) amends the Export Administration Regulations (EAR) by adding 8 entities to the Entity List, under the destinations of Burma (2), China, People's Republic of (China) (2), and Russia (4). These entities have been determined by the U.S. Government to be acting contrary to the national security or foreign policy interests of the United States.

DATES: This rule is effective December 11, 2024.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR imposes additional license requirements on, and limits the availability of, most license exceptions for exports, reexports, and transfers (in-country) when a listed entity is a party to the transaction. The license review policy for each listing is identified in the “License Review Policy” column on the Entity List, and the impact on the availability of license exceptions is described in the relevant Federal Register document that added the listing to the Entity List. BIS amends the Entity List pursuant to parts 744 (Control Policy: End-User and End-Use Based) and 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Entity List Decisions

Additions to the Entity List

The ERC determined to add Sky Aviator Company Limited and Synpex Shwe Company Ltd., under the destination of Burma, to the Entity List. These additions are being made because Sky Aviator Company Limited, and Synpex Shwe Company Ltd., have supplied the Burmese military with parts and components that have enabled the military to carry out human rights violations, including brutal aerial attacks against the civilian population. These activities are contrary to the foreign policy interests of the United States under § 744.11 of the EAR. Licenses to export, reexport or transfer (in-country) items subject to the EAR to both of these entities will be required for all items subject to the EAR, and license applications will be reviewed with a license review policy of presumption of denial.

The ERC determined to add Beijing Zhongdun Security Technology Group Co., Ltd. and Zhejiang Uniview Technologies Co., Ltd., under the destination of China, to the Entity List. Beijing Zhongdun Security Technology Group Co., Ltd. is being added because it develops and sells products and services that enable China's public security establishment to carry out human rights violations. Zhejiang Uniview Technologies Co., Ltd. is being added because it enables human rights violations, including high-technology surveillance targeted at the general population, Uyghurs, and members of other ethnic and religious minority groups. These activities are contrary to the foreign policy interests of the United States under § 744.11 of the EAR. Licenses to export, reexport or transfer (in-country) items subject to the EAR to both of these entities will be required for all items subject to the EAR, and license applications will be reviewed with a license review policy of presumption of denial.

The ERC determined to add Aviasnab LLC and Joint Stock Company Gorizont, under the destination of Russia, to the Entity List. These additions are being made because Aviasnab LLC and Joint Stock Company Gorizont have supplied the Burmese military with parts and components that have enabled the military to carry out human rights violations, including brutal aerial attacks against the civilian population. These activities are contrary to the foreign policy interests of the United States under § 744.11 of the EAR. Licenses to export, reexport or transfer (in-country) items subject to the EAR to both of these entities will be required for all items subject to the EAR, and license applications will be reviewed with a license review policy of presumption of denial.

The ERC determined to add NTechLab LLC and Technology Videoanalysis LLC, under the destination of Russia, to the Entity List. These additions are being made because NtechLab LLC and Technology Videoanalysis LLC develop and supply facial recognition software to the Russian government that uses these products and services to track and target peaceful protesters and activists. The products and services that these companies provide have become integral to Russia's mass-surveillance apparatus. These activities are contrary to the foreign policy interests of the United States under § 744.11 of the EAR. Licenses will be required for all items subject to the EAR. License applications will be reviewed with a license review policy of presumption of denial.

For the reasons described above, this final rule adds the following 8 entities including aliases where appropriate, to the Entity List:

Burma

• Sky Aviator Company Limited; and

• Synepex Shwe Company Ltd.

China

• Beijing Zhongdun Security Technology Group Co., Ltd.; and

• Zhejiang Uniview Technologies Co., Ltd.

Russia

• Aviasnab LLC;

• Joint Stock Company Gorizont;

• NtechLab LLC; and

• Technology Videoanalysis LLC.

Savings Clause

For the changes being made in this final rule, shipments of items removed from eligibility for a License Exception or export, reexport, or transfer (in-country) without a license (NLR) as a result of this regulatory action that were en route aboard a carrier to a port of export, reexport, or transfer (in-country), on December 11, 2024, pursuant to actual orders for export, reexport, or transfer (in-country) to or within a foreign destination, may proceed to that destination under the previous eligibility for a License Exception or export, reexport, or transfer (in-country) without a license (NLR) before January 10, 2025. Any such items not actually exported, reexported or transferred (in-country) before midnight, on January 10, 2025, require a license in accordance with this final rule.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule. In particular, section 1753 of ECRA (50 U.S.C. 4812) authorizes the regulation of exports, reexports, and transfers (in-country) of items subject to U.S. jurisdiction. Further, section 1754(a)(1)-(16) of ECRA (50 U.S.C. 4813(a)(1)-(16)) authorizes, inter alia, establishing and maintaining a list of foreign persons and end-uses that are determined to be a threat to the national security and foreign policy of the United States pursuant to the policy set forth in section 1752(2)(A), and restricting exports, reexports, and in-country transfers of any controlled items to any foreign person or end-use so listed; apprising the public of changes in policy, regulations, and procedures; and any other action necessary to carry out ECRA that is not otherwise prohibited by law. Pursuant to section 1762(a) of ECRA (50 U.S.C. 4821(a)), these changes can be imposed in a final rule without prior notice and comment.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves an information collection approved by OMB under control number 0694-0088, Simplified Network Application Processing System. BIS does not anticipate a change to the burden hours associated with this collection as a result of this rule. Information regarding the collection, including all supporting materials, can be accessed at https://www.reginfo.gov/public/do/PRAMain.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—END-USE AND END-USER CONTROLS

1. The authority citation for part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 7, 2023, 88 FR 62439 (September 11, 2023); Notice of November 1, 2023, 88 FR 75475 (November 3, 2023).

2. Supplement no. 4 is amended by:

a. Under BURMA, adding entries in alphabetical order for “Sky Aviator Company Limited” and “Synepex Shwe Company Ltd.”

b. Under CHINA, PEOPLE'S REPUBLIC OF adding entries in alphabetical order for “Beijing Zhongdun Security Technology Group Co., Ltd.” and “Zhejiang Uniview Technologies Co., Ltd.;” and

c. Under RUSSIA, adding entries in alphabetical order for “Aviasnab LLC”, “Joint Stock Company Gorizont”, “NtechLab LLC”, and “Technology Videoanalysis LLC”.

The additions read as follows:

Supplement No. 4 to Part 744—Entity List

* * * * *

Country | Entity | License requirement | License review policy | Federal Register citation
* * * * * * *
Burma | * * * * * *
| Sky Aviator Company Limited, a.k.a., the following four aliases: —Sky Aviator Company Ltd.; —Sky Aviator Co.; —Sky Aviator.; and —Sky Aviator Co. Ltd. | For all items subject to the EAR. (See § 744.11 of the EAR) | Presumption of denial | 89 FR [INSERT FR PAGE NUMBER] AND December 11, 2024.
| No. (204/2), Myinthar 11th Street, 14/1 Ward, South Okkalarpa Township, Yangon Region, Burma; and No. 286, Bogyoke Street, Ward No. 2, Waibargi, North Okkalarpa Township, Yangon Region, Burma.
| * * * * * *
| Synpex Shwe Company Ltd., a.k.a., the following one alias: —SS Techniques Company Limited. Nat Yay Kann (1) Street, No.1259, (35) Quarter, North Dagon Township, Yangon Region, Burma. | For all items subject to the EAR. (See § 744.11 of the EAR) | Presumption of denial | 89 FR [INSERT FR PAGE NUMBER] AND December 11, 2024.
* * * * * * *
CHINA, PEOPLE'S REPUBLIC OF | * * * * * *
| Beijing Zhongdun Security Technology Group Co., Ltd., a.k.a , the following one alias: —Beijing Zhongdun Security Technology Development Co. No. 1, Shouti South Road, Haidian District, Beijing, China; and No. 1 Capital Gymnasium South Road, Beijing, China. | For all items subject to the EAR. (See § 744.11 of the EAR) | Presumption of denial | 89 FR [INSERT FR PAGE NUMBER] AND December 11, 2024.
| * * * * * *
| Zhejiang Uniview Technologies Co., Ltd., a.k.a., the following one alias: —Uniview. No. 369, Xietong Road, Xixing Sub-district, Binjiang District, Hangzhou City, Zhejiang Province, 310051, China. | For all items subject to the EAR. (See § 744.11 of the EAR) | Presumption of denial | 89 FR [INSERT FR PAGE NUMBER] AND December 11, 2024.
| * * * * * *
* * * * * * *
| * * * * * *
RUSSIA | * * * * *
| Aviasnab LLC, Leningradskaya Street, Khimki, Moscow Region, 141400, Russia. | For all items subject to the EAR. (See § 744.11 of the EAR) | Presumption of denial | 89 FR [INSERT FR PAGE NUMBER] AND December 11, 2024.
| * * * * * *
| Joint Stock Company Gorizont, 2 “J” Omskaya Street, Rostov-on-Don, 344068, Russia. | For all items subject to the EAR. (See § 744.11 of the EAR) | Presumption of denial | 89 FR [INSERT FR PAGE NUMBER] AND December 11, 2024.
| * * * * * *
| NtechLab LLC, a.k.a., the following two aliases: —NtechLab; and —ntech lab. Novolesnaya Ulitsa, Dom 2, Pomeshchenie 1/3, Moscow, 127055, Russia. | For all items subject to the EAR. (See § 744.11 of the EAR) | Presumption of denial | 89 FR [INSERT FR PAGE NUMBER] AND December 11, 2024.
| * * * * * *
| Technology Videoanalysis LLC, a.k.a., the following two aliases: —Tevian; and —Technologii Videoanaliza. Skulptora Muchinoi Ulitsa, Dom 7, Floor 1 pomeshchenie II komnata 2v, Moscow, 119634, Russia. | For all items subject to the EAR. (See § 744.11 of the EAR) | Presumption of denial | 89 FR [INSERT FR PAGE NUMBER] AND December 11, 2024.
| * * * * * *
* * * * * * *

* * * * *

Matthew S. Borman,
Principal Deputy Assistant Secretary for Strategic Trade and Technology Security.

[FR Doc. 2024-29136 Filed 12-10-24; 8:45 am]

BILLING CODE 3510-33-P